Title 3—

The President

Proclamation 10702 of February 23, 2024

National Eating Disorders Awareness Week, 2024

By the President of the United States of America

A Proclamation

During National Eating Disorders Awareness Week, we shine a light on these serious health conditions, which impact nearly 1 in 10 people across America, and reaffirm our commitment to improving access to mental health services, treatment, recovery, and support.

Eating disorders are serious and life-threatening, but with early intervention, a full recovery is possible. Unfortunately, the stigmatization experienced by people struggling with eating disorders often prevents them from seeking health care and support. When left untreated, eating disorders can have devastating effects on the human body. Each of us has the power to show compassion to those who are struggling, help break down the barriers standing in the way of recovery, and create a culture that treats everyone with dignity and respect.

My Administration is taking action to support all those living with eating disorders. Federal agencies such as the National Institute of Mental Health have been working to improve the detection and prevention of eating disorders so we can save lives by developing effective therapies and interventions. Through the Substance Abuse and Mental Health Services Administration (SAMHSA) and funding for the National Center of Excellence for Eating Disorders, we are working to expand access to new tools and trainings for health care providers, families, caregivers, and community members so they can better detect and treat eating disorders. We are helping schools hire more mental health counselors, social workers, and nurses to make sure that young people have the support they need to live full and healthy lives.

At its core, tackling the mental health crisis is about providing hope. That is why my Administration is investing billions of dollars to improve access to mental health services, helping people get the care they deserve. Across the United States, we are expanding the number of Certified Community Behavioral Health Clinics that provide 24/7 care regardless of a person's ability to pay. We are expanding training for health care professionals; integrating mental health services into primary care settings; improving coverage of mental health conditions; strengthening enforcement of parity laws; and addressing the harms of bullying and social media that fuel eating disorders, depression, and self-harm.

As Americans, we have a duty to reach out to one another and leave no one behind. Let us extend a helping hand to those struggling with an eating disorder and ensure that they have access to the treatment they deserve. This week, we recommit to showing compassion and empowering our fellow Americans to ask for help when they need it. For those in need of support, visit samhsa.gov/find-support or call the SAMHSA National Helpline at 1-800-662-4357 for confidential, free, 24-hours-a-day, 365-days-a-year information and referral services. For anyone experiencing a crisis, immediate and confidential help is also available by calling or texting 988, the National Suicide and Crisis Lifeline.

NOW, THEREFORE, I, JOSEPH R. BIDEN JR., President of the United States of America, by virtue of the authority vested in me by the Constitution and the laws of the United States, do hereby proclaim February 26 through March 3, 2024, as National Eating Disorders Awareness Week. I encourage citizens, government agencies, private businesses, nonprofit organizations, and other interested groups to join in activities that will increase awareness of what Americans can do to prevent eating disorders and that will improve access to care and other support services for those currently living with an eating disorder.

IN WITNESS WHEREOF, I have hereunto set my hand this twenty-third day of February, in the year of our Lord two thousand twenty-four, and of the Independence of the United States of America the two hundred and forty-eighth.

[FR Doc. 2024-04258

Filed 2-27-24; 8:45 am]

Billing code 3395-F4-P